DEPARTMENT OF THE INTERIOR

Bureau of Land Management

[WO-310-1310-PB-24 1A]

Extension of Approved Information Collection, OMB Control Number 1004-0135

AGENCY: Bureau of Land Management, Interior.

ACTION: Notice and request for comments.

SUMMARY: In accordance with the Paperwork Reduction Act of 1995, the Bureau of Land Management (BLM) is requesting the Office of Management and Budget (OMB) to extend an existing approval to collect information from those persons who submit a Form 3160-5, Sundry Notices and Reports on Wells. We use the information to approve proposed operations and ensure compliance with terms and conditions of existing approvals.

DATES: You must submit your comments to BLM at the address below on or before April 7, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0135” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble, Fluid Minerals Group, on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Federal Oil and Gas Royalty Management Act of 1982 (30 U.S.C. 1701 et seq.); the Mineral Leasing Act of 1920, as amended (30 U.S.C. 181 et seq.); the Mineral Leasing Act for Acquired Lands of 1947, as amended (30 U.S.C. 351-359); the various Indian leasing acts; and the National Environmental Policy Act of 1969, as amended (42 U.S.C. 4321 et seq.), and regulation 43 CFR 3162.3-2 require oil and gas operators on Federal and restricted Indian lands to submit Form 3160-5, Sundry Notices and Reports on Wells, in order to obtain authority to perform specific additional operations on a well and to report the completion of such work. In addition, 43 CFR 3162.5-1 requires the operator to exercise diligence when disposing of produced waters. We require specific data concerning modifications to existing wells or construction requirements of produced water disposal pits. The regulation 43 CFR 3162.3-2 divides the proposed actions into three categories:

(1) Actions that require submitting the form for approval prior to beginning work and again after completion of operations;

(2) Actions that require submitting the form only after completion; and

(3) Actions that do not require reporting.

The operator or its agent must submit the data to us. The data pertains to modifying operations conducted under the terms and provisions of an oil and gas lease (a contractual agreement between a lessee and the United States) for Federal or restricted Indian lands. In the case of a produced water disposal pit approval, the data provides the technical aspects of pit design to allow for sufficient water containment, which prevents unnecessary releases of produced water into the environment.

Based on our experience managing the activities described above, we estimate the public reporting burden for the information is 25 minutes per response. Respondents are operators and operating rights owners of Federal and Indian (except Osage) oil and gas leases. The frequency of response varies depending on the type of activities conducted at oil and gas wells and on the operations. We estimate 34,000 notices filed annually and a total annual burden of 14,167 hours.

BLM will summarize all responses to this notice and include them in the request for OMB approval. All comments will become a matter of public record.

Dated: January 31, 2003.
Michael H. Schwartz,
Bureau of Land Management Information Collection Clearance Officer.

[FR Doc. 03-2693 Filed 2-4-03; 8:45 am]

BILLING CODE 4310-84-M